DEPARTMENT OF LABOR

Employment and Training Administration

Notice of Determination Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) that sales or production, or both, of the firm or subdivision have decreased absolutely, and

(3) that increases of imports or articles like or directly competitive with articles produced by the firm or appropriate subdivision have contributed importantly to the separations, or threat thereof, and to the absolute decline in sales or production.

Negative Determination for Worker Adjustment Assistance

In each of the following cases the investigation revealed that criterion (3) has not been met. A survey of customers indicated that increased imports did not contribute importantly to worker separations at the firm.

TA-W-39,718; J and R Patterns, Inc., Fall River, MA

TA-W-40,572; Northeast Bleach and Dye, Inc., Schuylkill Haven, NY

TA-W-39,942; Recycled Offices, Inc., Sanford, NC

TA-W-40,303; Precision Tool and Design, Inc., Erie, PA

TA-W-39,517; Spectrum Control, Inc., Erie, PA

TA-W-40,632; Corning, Inc., Fall River Corning, NY

TA-W-40,777; New Textile Parts Co LTD, Gastonia, NC

TA-W-40,800; Ohio Magnetics, Inc., A Subsidiary of Peerless Winsmith, Inc., Maple Heights, OH

TA-W-49,948; ARW Mayville LLC, Mayville, WI

TA-W-39,958; Akzo Nobel Functional Chemicals, LLC, A Division of Akzo Nobel, Inc., Gallipolis Ferry, WV

TA-W-40,858; National Oilwell, McAlester, OK

TA-W-39,310; Gen Systems, Stamco Div., New Bremen, OH

TA-W-40,502; & A; Midcom, Inc., Huron, SD and Waterstown, SD

TA-W-40,613; Celestrica-Wisconsin, A Div. of Celestrica Corp., Chippewa Falls, WI

TA-W-40,589; Agere Systems, Optoelectronics Div., Breinigsville, PA and Reading, PA

TA-W-40,860; Inovec, Inc., Eugene, OR

TA-W-40,805; Valeo Climate Control, Decatur, IL

TA-W-40,403; Gen Corp—GDX Automotive, Marion, IN

TA-W-39,175; Flextronics Binghamton, Conklin, NY

In the following cases, the investigation revealed that the criteria for eligibility have not been met for the reasons, specified.

Increased imports did not contribute importantly to worker separations at the firm.

TA-W-40,237; A and E Products Group, Forest City, NC

TA-W-40,892; JDS Uniphase, Electro-Optic Products Div., Bloomfield, CT

TA-W-40,857; Matco Electronics, Matco East Distribution Center, Verona, VA

TA-W-40,934; Tyco Electronics Corp., Jacobus, PA

TA-W-40,234; Agere Systems, Orlando, FL

TA-W-40,405 & A; Xerox Corp., (Soho), Small Office/Home Office Div., Canadaigua, NY and Farmington, NY

TA-W-40,836; Badger States Tanning, Milwaukee, WI

TA-W-40,997; Kraft Foods Lifesavers Co., Holland, MI

The workers firm does not produce an article as required for certification under Section 222 of the Trade Act of 1974.

TA-W-40,979; COE Industrial Electronics, Inc., Redlands, CA Located at California Steel Industries, Inc., Fontana, CA

TA-W-40,904; ANR Pipeline Co., Detroit, MI

TA-W-40,837; Golden Books Publishing Co., Inc., Racine, WI

TA-W-40,844; General Electric Co., GE Plastrics, Accounts Payable, Pittsfield, MA

The investigation revealed that criteria (2) has not been met. Sales or production did not decline during the relevant period as required for certification.

TA-W-40,746; Saint-Gobain Crystals and Detectors, Washougal, WA

TA-W-40,926; EVTAC Mining LLC, Formerly Thunderbird Mining, Eveleth, MN

The investigation revealed that criteria (2) and (3) has not been met. Sales or production did not decline during the relevant period as required for certification. Increased imports did not contribute importantly to worker separations at the firm.

TA-W-40,495; G and L Service Co., North America (USA), Inc., Eagle Pass, TX

Affirmative Determinations for Worker Adjustment Assistance

The following certifications have been issued; the date following the company name and location of each determination references the impact date for all workers of such determination.

TA-W-40,493 & A, B; Kaiser Aluminum and Chemical Corp., Tacoma Rod Mill, Tacoma, WA, Mead, WA and Trentwood, WA: November 9, 2000.

TA-W-40,357; Flextronics International, Palm Harbor, FL: November 7, 2000.

TA-W-40,082; Millennium Inorganic Chemicals, Hawkins Point Plant, Baltimore, MD: September 4, 2000.

TA-W-40,924; FCI Electronics, Clearfield, PA: August 15, 2000. Stoneridge, Inc., Cortland, OH: September 1, 2000.

TA-W-40,361; Donaldson Co., Inc., Old Saybrook, CT: November 9, 2000.

TA-W-40,869; Continental Tire North America, Inc., Barnesville, GA: January 2, 2001.

TA-W-40,920; Fasco Industries, Inc., Ozark, MO: August 15, 2000.

TA-W-40,217; Shirts Plus II, Inc., Loretto, TN: September 17, 2000.

TA-W-40,038; H H Smith, Inc., Meadville, PA: August 31, 2000.

TA-W-40,745; New Holland North America, Inc., CNH Global N.V., Belleville, PA: December 13, 2000.

TA-W-40,864; U.S. Consolidation, Inc., Newark, NJ: July 31, 2000.

TA-W-40,674 & A; B.B. Walker Co., Asheboro, NC and Bender Shoe Co., Somerset, PA: December 17, 2000.

TA-W-40,563; Bestform, Inc., Broad Street Sewing Facility, Johnstown, PA: December 23, 2001.

TA-W-40,563A, B, C; Bestform, Inc., Johnstown Distribution Center, Johnstown, PA, Windber Sewing Facility, Windber, PA and Sidman Distribution Center, Sidman, PA: October 17, 2000.

TA-W-40,993; L and G Manufacturing, Inc., Archbald, PA: January 16, 2001.

TA-W-40,811; Materials Processing, Inc., Coatings Div., Riverview, MI: January 8, 2001.

TA-W-40,604; & Matsushita Kotokubi Electronics Industries of America, Vancouver, WA and Matsushita Kotobuki Electronics Sales of America, Portland, OR: November 13, 2000.

TA-W-40,680; Pan-Am Shoe Co., Inc., Camuy, PR: December 21, 2000.

TA-W-40,884; Tracy Minntronix Corp., Tracy, MN: January 29, 2001.

TA-W-39,606; California Manufacturing Co., California, MO: June 19, 2000.

TA-W-39,354; Neely Manufacturing Co., Smithville, TN: May 15, 2000.

TA-W-40,271 & A; Symbol Technologies, Holtsville, NY and Bohemia, NY: September 18, 2000.

TA-W-40,545; Appleton Coated Papers, Combined Locks, WI: December 27, 2000.

TA-W-40,864; ECC Card Clothing, Inc., A Div. Of Carclo U.S. Holdings, Inc., Fall River, MA: January 14, 2001.

TA-W-40,503; International Paper, International Papers Business, Menasha, WI: November 12, 2000.

TA-W-40,285; Converter Concepts, Inc., Quincy, IL: October 11, 2000.

TA-W-40,584 & A; Rockwell Collins, Pomona, CA and Irvine, CA: January 3, 2001 through March 8, 2004.

TA-W-40,654; In Vogue Apparel, West Hazleton, PA: December 3, 2000.

TA-W-40,582; GE Lighting, Inc., Austintown Products Plant, Youngstown, OH: November 13, 2000.

TA-W-40,340; Linnton Plywood Association, Portland, OR: October 29, 2000.

TA-W-40,667; Leech Tool and Die Works, Inc., Meadville, PA: December 19, 2000.

TA-W-39,716; Michigan Rag Co., Inc., Grand Haven, MI: July 23, 2000.

TA-W-40,160; Crystal Manufacturing, Inc., Fall River, MA: September 17, 2000.

TA-W-40,682; World Kitchen, Inc., Martinsburg, WV: December 20, 2000.

TA-W-40,767; Uniroyal Goodrich Tire Manufacturing, Michelin North America, Inc., Tuscaloosa, AL: November 30, 2000.

TA-W-40,813; & A; Blough-Wagner Manufacturing Co., Inc., Middleburg, PA and Elysburg, PA: January 15, 2001.

TA-W-40,936; LTV Steel Corp., Lime Plant, Grand River, OH: January 28, 2001.

TA-W-40,287; Barranco Apparel Group, Ruth of Carolina Div., Hendersonville, NC: October 10, 2000.

TA-W-40,898; St. Clair Technologies, Inc., Charlotte, MI: February 4, 2001.

TA-W-40,848; Wateree Textile Corp., Lugoff, SC: January 10, 2001.

TA-W-40,927; Teleflex, Inc., Waterbury, CT: February 4, 2001.

TA-W-40,907; Pak-Mor Manufacturing Co., San Antonio, TX: January 23, 2001.

TA-W-39,458; MacDonald Footwear, Inc., Skowhegan, ME: June 1, 2000.

TA-W-40,162; Coraza Systems, Inc., Formerly Computer Cabinet Corp., San Jose, CA: September 18, 2000.

TA-W-39,923; Illbruck Automotive, Inc., Howell, MI: September 4, 2000.

TA-W-40,859; Jacmel Jewelry, Inc., Long Island City, NY: November 27, 2000.

TA-W-40,464; Low Complexity Manufacturing Group, Inc., Utica, NY: October 8, 2000.

TA-W-40,283; United Foods, Inc., Pictsweet Mushroom Farm, Salem, OR: September 20, 2000.

TA-W-40,525 & A,B,C,D; The Boeing Co., Commercial Airplane Group, Seattle, WA, Puget Sound Region, WA, Spokane, WA, Portland, OR and Wichita, KS: February 25, 2002.

TA-W-40,933; Oxford Slacks, Oxford Slacks Div., Of Oxford Industries, Inc., Monroe, GA: January 29, 2001.

TA-W-40,782; Philadelphia Mixers, Palmyra, PA: January 30, 2001.

TA-W-40,964; Ultrafem, Inc., Missoula, MT: January 16, 2001.

TA-W-39,852; Alfred Angelo Co., Horsham, PA: August 7, 2000.

TA-W-39,540; Oxford Automotive, Masury, OH: June 13, 2000.

TA-W-39,856; Krisport, Inc., Wheeling, WV: August 7, 2000.

TA-W-39,815; Columbus McKinnon Corp., Yale Hoists Div., Forrest City, AR: August 2, 2000.

TA-W-40,456; Magnequench International, Anderson, IN: December 7, 2000.

TA-W-40,459; Ispat Inland, Inc., Indiana Harbor Works, East Chicago, IN: December 13, 2000.

TA-W-40,810 & A, B; Solon Manufacturing Co., Skowhegan, ME, Solon, ME and Plymouth, NH: January 15, 2001.

TA-W-40,820 & A; John Solomon, Inc., Somerville, MA and Winder, GA: January 16, 2001.

TA-W-40,630: U.S.A. Apparel Enterprises, Inc., Fall River, MA: November 30, 2000.

TA-W-40,703 & A, B; Liberty Fabrics, Div. of Sara Lee, New York, Gordonsville, VA and LCM Facility, Gordonsville, VA: December 27, 2000.

TA-W-39,337; Bayer Corp., Consumer Care Div., Elkart, IN: May 14, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of March, 2002.

In order for an affirmative determination to be made and a certification of eligibility to apply for NAFTA-TAA the following group eligibility requirements of section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increased imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05792; TNS Mills, Inc., Rockingham, NC

NAFTA-TAA-05655; Kennametal Industrial Product Group, A Subsidiary of Kennametal, Inc., Pine Bluff, AR

NAFTA-TAA-05603; In Vogue Apparel, West Hazelton, PA

NAFTA-TAA-05294; Arms Industrial, Inc., Lockport, IL

NAFTA-TAA-05581; G and L Service Company, North America (USA), Inc., Eagle Pass, TX

NAFTA-TAA-05751; Goodyear Tire and Rubber Co., East Gadsden, AL

NAFTA-TAA-05215; APW Mayville LLC, Mayville, WI

NAFTA-TAA-05005; California Manufacturing Co., California, MO

NAFTA-TAA-05548; Clebert's Hosiery Mill, Inc., Connelly Springs, NC

NAFTA-TAA-05858; West Point Foundry and Machine Co., West Point, GA

NAFTA-TAA-05890; Kraft Foods, Lifesavers Co., Holland, MI

NAFTA-TAA--05726 & A; Agere Systems, Optoelectronics Div., Breinigsville, PA and Reading, PA

NAFTA-TAA-05493; Buckeye Steel Castings Co., Columbus, OH

NAFTA-TAA-05737; Harsco Corp., Heckett-Multiserv Div., Whiting, IN, Located at LTV Steel, East Chicago, IN

NAFTA-TAA-04868; Flextronics Binghamton, Conklin, NY

NAFTA-TAA-05082; Columbus McKinnon Corp., Yale Hoists Div., Forrest City, AR

NAFTA-TAA-05589; Gencorp—GDX Automotive, Marion, IN

NAFTA-TAA-05354; A and E Products Group, Forest City, NC

NAFTA-TAA-05699; Applied Concepts, Inc., Warrendale, PA

NAFTA-TAA-05766; Badger States Tanning, Milwaukee, WI

The workers firm does not produce an article as required for certification under section 250(a), Subchapter D, Chapter 2, Title II, of the Trade Act of 1974, as amended.

NAFTA-TAA-5756; AT&T, Broadband Div., Los Angeles, CA

NAFTA-TAA-5856; Black and Decker Power Tools, Nashville, TN

The investigation revealed that criteria (1) has not been met. A significant number or proportion of the workers in such workers' firm or an appropriate subdivision (including workers in any agricultural firm or appropriate subdivision thereof) did not become totally or partially separated from employment.

NAFTA-TAA-05362; Key Plastics, LLC, Felton, PA

The investigation revealed that criteria (2) has not been met. Sales or production did not decline during the relevant period as required for certification.

NAFTA-TAA-05810; Sanmina, Inc., A Subsidiary of Sanmina-Sci Company, Clinton, NC

Affirmative Determinations NAFTA-TAA

NAFTA-TAA-05899; Renfro Corp., Star Plant, Star, NC: February 22, 2001.

NAFTA-TAA-05925; Master Lock Co., A Subsidiary of Fortune Brands, Inc., Milwaukee, WI: January 31, 2001.

NAFTA-TAA-05828; T and K Manufacturing, Brownstown, PA: January 23, 2001.

NAFTA-TAA-05822; Sims Manufacturing Co., Inc., Rutland, MS: January 30, 2001.

NAFTA-TAA-05824; Uniroyal Goodrich Tire Manufacturing, Michelin North America, Inc., Tuscaloosa, AL: January 30, 2001.

NAFTA-TAA-05146; Atchison Products, Inc., Boonville, MO: July 25, 2000.

NAFTA-TAA-05495; Thermal Industries, Inc., Vinylium Corp., Pittsburgh, PA: October 19, 2000.

NAFTA-TAA-05652; Magnequench International, Anderson, IN: December 13, 2000.

NAFTA-TAA-05307; H H Smith, Inc., Meadville, PA: August 31, 2000.

NAFTA-TAA-05279; Fasco Industries, Inc., Ozark, MO: August 6, 2000.

NAFTA-TAA-05757; Wateree Textile Corp., Lugoff, SC: January 10, 2001.

NAFTA-TAA-05710 & A; Rockwell Collins, Passenger Systems, Pomona, CA, Irvine, CA: January 3, 2001 Through March 8, 2004.

NAFTA-TAA-05502; Linnton Plywood Association, Portland, OR: October 30, 2000.

NAFTA-TAA-05595; Tenneco Automotive, Ligonier, IN: November 29, 2000.

NAFTA-TAA-05791; L and G Manufacturing, Inc., Archbald, PA: January 16, 2001.

NAFTA-TAA-05695 & A; B.B. Walker Co., Asheboro, NC and Bender Shoe Co., Somerset, PA: December 19, 2000.

NAFTA-TAA-5798; Oxford Slacks, Oxford Slacks Div., Div. of Oxford Industries, Inc., Monroe, GA: November 24, 2001.

NAFTA-TAA-05800; FDB, Inc., Lincolnton, GA: January 24, 2001.

NAFTA-TAA-05582; Kentucky Textiles, Inc., Paris, KY: November 20, 2000.

NAFTA-TAA-5902; Cedo Door Products, Ass Ablow Door Group LLC, Harlingen, TX: January 2, 2001.

NAFTA-TAA-05908; TRW, Inc., TRW Automotive, Cookville, TN: February 22, 2001.

NAFTA-TAA-5913; JDS Uniphase, Electro-Optic Products Div., Bloomfield, CT: February 12, 2001.

NAFTA-TAA-05736 & A, B; Solon Manufacturing Co., Skowhegan, ME, Solon, ME and Plymouth, NH: January 15, 2001.

NAFTA-TAA-05796 & A; John Solomon, Inc., Somerville, MA and Winder, GA: January 31, 2001.

NAFTA-TAA-05761; Clear Pine Mouldings, Inc., Prineville, OR: January 8, 2001.

NAFTA-TAA-04912; Neely Manufacturing Co., Smithville, TN: May 15, 2000.

NAFTA-TAA-05838; Philadelphia Mixers, Palmyra, PA: December 10, 2000.

NAFTA-TAA-05370; New World Pasta LLC, Lebanon, PA: September 22, 2000.

NAFTA-TAA-05781; Pak-Mor Manufacturing Co., San Antonio, TX: January 18, 2001.

NAFTA-TAA-05928; Perkinelmer Life Sciences, Inc., Beltsville, MD: January 4, 2001.

NAFTA-TAA-05684; Kraft Foods North America, Inc., Allentown, PA: December 13, 2000.

NAFTA-TAA-05371; Coraza Systems, Inc., Formerly Computer Cabinet Corpo., San Jose, CA: September 18, 2000.

NAFTA-TAA-05450; United Foods, Inc., Pictsweet Mushroom Farm, Salem, OR: September 20, 2000.

NAFTA-TAA-05825; Vaapco Group, LLC, d/b/a Novatek Manufacturing, Millers Tavern, VA: January 23, 2001.

NAFTA-TAA-05855; Low Complexity Manufacturing Group, Inc., Utica, NY: October 23, 2000.

NAFTA-TAA-05890; Bayer Corp., Consumer Care Div., Elkhart, IN: May 14, 2000.

I hereby certify that the aforementioned determinations were issued during the month of March, 2002. Copies of these determinations are available for inspection in Room C-5311, U.S. Department of Labor, 200 Constitution Avenue, NW., Washington, DC 20210 during normal business hours or will be mailed to persons who write to the above address.

Dated: March 22, 2002.
Edward A. Tomchick,
Director, Division of Trade Adjustment Assistance.

[FR Doc. 02-7594 Filed 3-28-02; 8:45 am]

BILLING CODE 4510-30-M